NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by February 8, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-036

1. Applicant: Jason Calabretta, NBC News, 30 Rockefeller Plaza, New York, NY 10112

Activity for Which Permit is Requested: Waste Management. The applicant seeks an ACA permit for the purposes of waste management associated with the use of Remotely Piloted Aircrafts (RPAS) in Antarctica. Aircrafts will be launched from land or by boat and footage will be used for the purposes of producing a television news segment. RPAS operations will occur in association with regular operations of Seabourn RPAs will not be flown over any concentrations of wildlife, Antarctic Specially Protected or Managed Areas or Historic Sites and Monuments without appropriate authorization. Aircraft are only to be flown by experienced, pre-approved pilots in fair weather conditions and in the presence of an observer, who will always maintain visual line of sight with the aircraft during operation. Measures are in place to prevent loss of the aircraft.

Location: Antarctic Peninsula Area.

Dates of Permitted Activities: January 26, 2023-February 7, 2023.

Erika N. Davis,
Program Specialist, Office of Polar Programs.

[FR Doc. 2023-00137 Filed 1-6-23; 8:45 am]

BILLING CODE 7555-01-P